SMALL BUSINESS ADMINISTRATION

Connecticut District Advisory Council; Public Meeting

The U.S. Small Business Administration Connecticut District Advisory Council, located in the geographical area of Hartford, Connecticut will hold a public meeting at 8:30 a.m., on Monday, April 8, 2002, Connecticut District Office, 330 Main Street, Hartford, Connecticut 06106, to discuss such matters as may be presented. For further information, write or call Marie Record, District Director, U.S. Small Business Administration, 330 Main Street, Hartford, Connecticut—(860) 240-4700.

Anyone wishing to attend and make an oral presentation to the Board must contact Marie A. Record, no later than April 4, 2002 via e-mail or fax. Marie A. Record, District Director, U.S. Small Business Administration, Connecticut District Office 330 Main Street, Hartford, CT 06106 (860) 240-4670 phone or (860) 240-4714 fax or e-mail marie.record@sba.gov.

Steve Tupper,
Committee Management Officer.

[FR Doc. 02-7119 Filed 3-22-02; 8:45 am]

BILLING CODE 8025-01-P